RAILROAD RETIREMENT BOARD

Agency Forms Submitted for OMB Review

Summary: In accordance with the Paperwork Reduction Act of 1995 (44 U.S.C. chapter 35), the Railroad Retirement Board (RRB) has submitted the following proposal(s) for the collection of information to the Office of Management and Budget for review and approval.

Summary of Proposal(s):

(1) Collection title: Placement Service.

(2) Form(s) submitted: ES-2, ES-21, ES-21c, UI-35, and Job Vacancies Reports.

(3) OMB Number: 3220-0057.

(4) Expiration date of current OMB clearance: 10/31/2004.

(5) Type of request: Revision of a currently approved collection.

(6) Respondents: Individuals or households, business or other for-profit, State, local or tribal government.

(7) Estimated annual number of respondents: 9,500.

(8) Total annual responses: 23,000.

(9) Total annual reporting hours: 1,452.

(10) Collection description: Under the RUIA, the Railroad Retirement Board provides job placement assistance for unemployed railroad workers. The collection obtains information from job applicants, railroad employers and State Employment Service offices for use in placement, for providing referrals for job openings, reports of referral results and for verifying and monitoring claimant eligibility.

Additional Information or Comments: Copies of the forms and supporting documents can be obtained from Charles Mierzwa, the agency clearance officer (312-751-3363) or Charles.Mierzwa@rrb.gov.

Comments regarding the information collection should be addressed to Ronald J. Hodapp, Railroad Retirement Board, 844 North Rush Street, Chicago, Illinois, 60611-2092 or Ronald.Hodapp@rrb.gov and to the OMB Desk Officer for the RRB, at the Office of Management and Budget, Room 10230, New Executive Office Building, Washington, DC 20503.

Charles Mierzwa,
Clearance Officer.

[FR Doc. 04-15626 Filed 7-8-04; 8:45 am]

BILLING CODE 7905-01-P